DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders with April anniversary dates. In accordance with Commerce's regulations, we are initiating those administrative reviews.

DATES: Applicable June 12, 2023.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with April anniversary dates.

All deadlines for the submission of various types of information, certifications, or comments or actions by Commerce discussed below refer to the number of calendar days from the applicable starting time.

Notice of No Sales

With respect to antidumping administrative reviews, if a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than April 30, 2024.

| Period to be reviewed
AD Proceedings
Bahrain: Common Alloy Aluminum Sheet, A-525-001 | 4/1/22-3/31/23
Gulf Aluminium Rolling Mill B.S.C.
Brazil: Common Alloy Aluminum Sheet, A-351-854 | 4/1/22-3/31/23
CBA Itapissuma
Companhia Brasileira de Aluminio
Novelis do Brasil Ltda.
Croatia: Common Alloy Aluminum Sheet, A-891-001 | 4/1/22-3/31/23
Impol d.o.o.
Impol-TLM, d. o. o.
Egypt: Common Alloy Aluminum Sheet, A-729-803 | 4/1/22-3/31/23
Aluminium Company of Egypt (Egyptalum); Egyptian Copper
Works Company
Germany: Common Alloy Aluminum Sheet, A-428-849 | 4/1/22-3/31/23
Alanod GmbH & Co. KG
Constellium Rolled Products Singen GmbH & Co. KG
Constellium Singen GmbH
Hydro Aluminum Rolled Products GmbH
Novelis Deutschland GmbH
Speira GmbH
Iceland: Silicon Metal, A-400-001 | 4/1/22-3/31/23
PCC Bakki Silicon hf
India: Carbon and Alloy Steel Threaded Rod, A-533-887 | 4/1/22-3/31/23
A H Enterprises
Aadi Shree Fastener Industries
Aanjaney Micro Engy Pvt., Ltd.
Accurate Steel Forgings (I) Ltd.
Alps Industries Ltd.
Apex Thermocon Pvt., Ltd.
Ash Hammer Union
Astrotech Steels Pvt., Ltd.
Atlantic Container Line Pvt., Ltd.
Ats Exp. 07
Atz Shipping Trade & Transport Pvt.
BA Metal Processing
Babu Exports
Bhansali Inc.
Boston Exp. & Engineering Co.
C.H.Robinson International (India)
C.P.World Lines Pvt., Ltd.
Century Distribution Systems Inc.
Charu Enterprises
Chirag International
Daksh Fasteners
Dedicated Imp. & Exp. Co.
Dhiraj Alloy & Stainless Steel
Dsv Air And Sea Pvt., Ltd.
Eastman Industries Ltd.
Eos Precision
ESL Steel Ltd
Everest Exp.
Everest Industrial Corporation
Farmparts Company
Fence Fixings
Fine Thread Form Industries
Galorekart Marketplace Pvt., Ltd.
Ganga Acrowools Ltd.
Ganpati Fastners Pvt., Ltd.
Gateway Engineering Solution
GDPA Fasteners
Gee Pee Overseas
Geodis India Pvt., Ltd. (Indel)
Goodgood Manufacturers
Idea Fasteners Pvt., Ltd.
Jindal Steel And Power Ltd.
JSW Steel Ltd.
Kanchan Trading Co.
Kanhaiya Lal Tandoor (P) Ltd.
Kanika Exp.
Kapson India
Kapurthala Industrial Corporation
Karna International
Kei Industries Ltd.
King Exports
Kova Fasteners Pvt., Ltd.
Linit Exp. Pvt., Ltd.
Mahajan Brothers
Maharaja International
Mangal Steel Enterprises Ltd.
Maya Enterprises
Meenakshi India, Ltd.
Metalink
MKA Engineers And Exporters Pvt., Ltd.
National Cutting Tools
Nishant Steel Industries
NJ Sourcing
Noahs Ark International Exp.
Nuovo Fastenings Pvt., Ltd.
Oia Global India Pvt., Ltd.
Otsusa India Pvt., Ltd.
Paloma Turning Co. Pvt., Ltd.
Patton International Ltd.
Perfect Tools & Forgings
Permali Wallace Pvt., Ltd.
Polycab India Ltd.
Pommada Hindustan Pvt., Ltd.
Poona Forge Pvt., Ltd.
R A Exp
R K Fasteners (India)
Raajratna Ventures Ltd.
Raashika Industries Pvt., Ltd.
Rajpan Group
Rambal Ltd.
Randack Fasteners India Pvt., Ltd.
Ratnveer Metals Ltd.
Rimjhim Ispat Ltd.
Rods & Fixing Fasteners
S K Overseas
S.M Forgings & Engineering
Sandip Brass Industries
Sandiya Exp. Pvt., Ltd.
Sansera Engineering Pvt., Ltd.
Shree Luxmi Fasteners
Silverline Metal Engineering Pvt. Lt
Singhania International Ltd.
Sri Satya Sai Enterprises
Steampulse Global Llp
Steel Authority Of India Ltd.
Suchi Fasteners Pvt., Ltd.
Supercon Metals Pvt., Ltd.
Tekstar Pvt., Ltd.
The Technocrats Co.
Tijiya Exp. Pvt., Ltd.
Tijiya Steel Pvt., Ltd.
Tong Heer Fasteners
Trans Tool Pvt., Ltd.
Universal Engineering And Fabricat
V.J Industries Pvt., Ltd.
Vidushi Wires Pvt., Ltd.
Viraj Profiles Ltd.
Vrl Automation
VV Marine Pvt., Ltd.
Yogendra International
Zenith Precision Pvt., Ltd.
Zenith Steel Pipes And Industries L
India: Common Alloy Aluminum Sheet, A-533-895 | 4/1/22-3/31/23
Hindalco Industries Limited
Jindal Aluminum Limited
Virgo Aluminum Limited
Indonesia: Common Alloy Aluminum Sheet, A-560-835 | 4/1/22-3/31/23
PT. Alumindo Light Metal Industry, Tbk.
PT. Starmas Inti Aluminum Industry
Italy: Common Alloy Aluminum Sheet, A-475-842 | 4/1/22-3/31/23
Novelis Italia SpA
Profilglass SpA
Oman: Common Alloy Aluminum Sheet, A-523-814 | 4/1/22-3/31/23
Oman Aluminium Rolling Company (OARC)
Romania: Common Alloy Aluminum Sheet, A-485-809 | 4/1/22-3/31/23
Alro, SA, Vimetco Management Romania, SRL, Vimetco Group
Serbia: Common Alloy Aluminum Sheet, A-801-001 | 4/1/22-3/31/23
Impol d.o.o.
Impol Seval, A.D.
Otovici d.o.o.
Slovenia: Common Alloy Aluminum Sheet, A-856-001 | 4/1/22-3/31/23
Impol 2000
Impol d.o.o.
Impol FT d.o.o.
Impol Servis
South Africa: Common Alloy Aluminum Sheet, A-791-825 | 4/1/22-3/31/23
Hulamin Operations (Pty) Limited
Spain: Common Alloy Aluminum Sheet, A-469-820 | 4/1/22-3/31/23
Compania Valenciana de Aluminio Baux, S.L.U., Bancolor Baux, S.L.U.
Aludium Transformación de Productos, S.L.
Taiwan: Common Alloy Aluminum Sheet, A-583-867 | 4/1/22-3/31/23
C. S. Aluminium Corporation
Cheng Pang Blind Industrial Corp.
Ckm Building Material Corp.
Friendship Industries Ltd.
King Da Long Enterprise Corp.
Meglobe Co., Ltd.
Meng Sin Material Co., Ltd.
Mitsubishi Corporation (Taiwan) Ltd.
Prosperity Tieh Enterprise Co., Ld.
Ta Chen Empire Aluminium Co., Ltd.
Taiwell Aluminum Corp.
Yieh Corp. Ltd.
Yueh Cheng Enterprise Co., Ltd.
The People's Republic of China: 1,1,1,2-Tetrafluoroethane (R-134a), A-570-044 | 4/1/22-3/31/23
Bestcool Inc., Ltd.
Electrochemical Factory of Zhejiang Juhua Co., Ltd.
Fujian Qingliu Dongying Chemical Ind. Co., Ltd.
Hongkong Richmax Ltd.
Huantai Dongyue International Trade Co. Ltd.
Jiangsu Bluestar Green Technology Co., Ltd
ICOOL Chemical Co., Ltd.
Jiangsu Sanmei Chemicals Co., Ltd.
Jinhua Binglong Chemical Technology Co., Ltd.
Jinhua Yonghe Fluorochemical Co., Ltd.
Ningbo FTZ ICOOL Prime International
Puremann, Inc.
Shandong Dongyue Chemical Co., Ltd.
Shandong Huaan New Material Co., Ltd.
Sinochem Environmental Protection Chemicals (Taicang) Co., Ltd.
T.T. International Co., Ltd.
Weitron International Refrigeration Equipment (Kunshan) Co., Ltd. (aka Weichang Refrigeration Equipment (Kunshan) Co., Ltd.)
Zhejiang Juhua Co., Ltd.
Zhejiang Morita New Materials Co., Ltd.
Zhejiang Organic Fluor-Chemistry Plant, Zhejiang Juhua Co., Ltd.
Zhejiang Quhua Fluor-Chemistry Co., Ltd.
Zhejiang Quhua Juxin Fluorochemical Industry Co., Ltd.
Zhejiang Quzhou Juxin Fluorine Chemical Co., Ltd.
Zhejiang Quzhou Lianzhou Refrigerants Co., Ltd.
Zhejiang Sanmei Chemical Industry Co., Ltd., Jiangsu Sanmei Chemicals Co., Ltd.
Zhejiang Yonghe Refrigerant Co., Ltd.
Zhejiang Zhonglan Refrigeration Technology Co., Ltd.
Zibo Feiyuan Chemical Co., Ltd.
The People's Republic of China: Certain Activated Carbon, A-570-904 | 4/1/22-3/31/23
Beijing Pacific Activated Carbon Products Co., Ltd.
Bengbu Modern Environmental Co., Ltd.
Carbon Activated Tianjin Co., Ltd.
Datong Hongdi Carbon Co., Ltd.
Datong Juqiang Activated Carbon Co., Ltd.
Datong Municipal Yunguang Activated Carbon Co., Ltd.
Jacobi Carbons AB; Jacobi Carbons Industry (Tianjin) Co., Ltd.; Tianjin Jacobi International Trading Co. Ltd.; Jacobi Adsorbent Materials ⁵
Jilin Bright Future Chemicals Co., Ltd.
Ningxia Guanghua Cherishmet Activated Carbon Co., Ltd.
Ningxia Huahui Environmental Technology Co., Ltd. (formerly known as Ningxia Huahui Activated Carbon Co., Ltd.) ⁶
Ningxia Mineral & Chemical Limited
Shanxi Dapu International Trade Co., Ltd.
Shanxi DMD Corp.
Shanxi Industry Technology Trading Co., Ltd.
Shanxi Sincere Industrial Co., Ltd.
Shanxi Tianxi Purification Filter Co., Ltd.
Sinoacarbon International Trading Co., Ltd.
Tancarb Activated Carbon Co., Ltd.
Tianjin Channel Filters Co., Ltd.
Tianjin Maijin Industries Co., Ltd.
The People's Republic of China: Aluminum Foil, A-570-053 | 4/1/22-3/31/23
Alcha International Holdings Limited
Aluminum Corporation of China Limited
Anhui Maximum Aluminum Industries Company Ltd.
Anhui Zhongji Battery Foil Science & Technology Co., Ltd.
Dingheng New Materials Co., Ltd.
Dingsheng Aluminum Industries (Hong Kong) Trading Co., Ltd. (Dingsheng Aluminium Industries (Hong Kong) Trading Co., Ltd.)
Dong-IL Aluminium Co., Ltd.
Dongwon Systems Corp.
Eastern Valley Co., Ltd.
Galex Inc.
Granges Aluminum (Shanghai) Co., Ltd.
Hangzhou Dingsheng Import & Export Co. Ltd. (Hangzhou Dingsheng Import and Export Co., Ltd.)
Hangzhou Five Star Aluminum Co., Ltd.
Hangzhou Teemful Aluminium Co., Ltd.
Henan Mingtai Al. Industrial
Hunan Suntown Marketing Limited
Inner Mongolia Liansheng New Energy Material Co. Ltd.
Inner Mongolia Xinxing New Energy Material Co., Ltd.
Jiangsu Dingsheng New Materials Joint-Stock Co., Ltd.
Jiangsu Huafeng Aluminum Industry Co., Ltd.
Jiangsu Zhongji Lamination Materials Co., (HK) Limited
Jiangsu Zhongji Lamination Materials Co., Ltd.
Jiangsu Zhongji Lamination Materials Stock Co., Ltd.⁷
Kataman Metals
Korea Aluminium Co., LTD.
Lotte Aluminium Co., Ltd.
Prosvic Sales Inc.
Sama Aluminium Co Ltd
SAM-A Aluminum Co., Ltd.
Sankyu-Thai Co., Ltd.
Shandong Nanshan Aluminum Co., Ltd.
Shanghai Huafon Aluminium Corporation
Shanghai Shenhuo Aluminium Foil Co., Ltd
Shanghai Shenyan Packaging Materials Co., Ltd.
Shanghai Sunho Aluminum Foil Co., Ltd.
SK Global America Inc.
Suntown Technology Group Corporation Limited (Suntown Technology Group Co., Ltd.)
Suzhou Manakin Aluminum Processing Technology Co., Ltd.
Suzhou Manakin Trading Co., Ltd
Suzhou Xin Zhao Jin Aluminum Foil Co., Ltd.
Walson (HK) Trading Co., Limited
Xiamen Xiashun Aluminium Foil Co., Ltd.
Yinbang Clad Materials Co., Ltd.
Zhejiang Yongjie Aluminum Co., Ltd.
The People's Republic of China: Alloy and Certain Carbon Steel Threaded Rod, A-570-104 | 4/1/22-3/31/23
Ningbo Zhongjiang High Strength Bolts Co., Ltd.
Ningbo Dongxin High-Strength Nut Co. Ltd.
The People's Republic of China: Drawn Stainless Steel Sinks, A-570-983 | 4/1/22-3/31/23
B&R Industries Limited
Feidong Import and Export Co., Ltd.
Foshan Shunde MingHao Kitchen Utensils Co., Ltd.
Foshan Zhaoshun Trade Co., Ltd.
Franke Asia Sourcing Ltd.
Grand Hill Work Company
Guangdong Dongyuan Kitchenware Industrial Co., Ltd.
Guangdong G-Top Import & Export Co., Ltd.
Guangdong New Shichu Import & Export Company Limited
Guangdong Yingao Kitchen Utensils Co., Ltd.
Hangzhou Heng's Industries Co., Ltd.
Hubei Foshan Success Imp & Exp Co. Ltd.
J&C Industries Enterprise Limited
Jiangmen Hongmao Trading Co., Ltd.
Jiangmen New Star Hi-Tech Enterprise Ltd.
Jiangmen Pioneer Import & Export Co., Ltd.
Jiangxi Zoje Kitchen & Bath Industry Co., Ltd.
KaiPing Dawn Plumbing Products, Inc.
Ningbo Afa Kitchen and Bath Co., Ltd./Yuyao Afa Kitchenware Co., Ltd.
Ningbo Oulin Kitchen Utensils Co., Ltd.
Primy Cooperation Limited
Shenzhen Kehuaxing Industrial Ltd.
Shunde Foodstuffs Import & Export Company Limited of Guangdong
Shunde Native Produce Import and Export Co., Ltd. of Guangdong
Xinhe Stainless Steel Products Co., Ltd.
Zhongshan Newecan Enterprise Development Corporation
Zhongshan Silk Imp. & Exp. Group Co., Ltd. of Guangdong
Zhongshan Superte Kitchenware Co., Ltd.
Zhuhai Kohler Kitchen & Bathroom Products Co. Ltd.
The People's Republic of China: Magnesium Metal, A-570-896 | 4/1/22-3/31/23
Tianjin Magnesium International Co., Ltd.
Tianjin Magnesium Metal Co., Ltd.
The People's Republic of China: Mobile Access Equipment and Subassemblies Thereof, A-570-139 ⁸ | 4/13/22-3/31/23
Lingong Group Jinan Heavy Machinery Co., Ltd.
Terex (Changzhou) Machinery Co., Ltd.
Oshkosh JLG (Tianjin) Equipment Technology Co., Ltd.
Zhejiang Dingli Machinery Co., Ltd.
The People's Republic of China: Stainless Steel Sheet and Strip, A-570-042 | 4/1/22-3/31/23
Ahonest Changjiang Stainless Co., Ltd.
Angang Guangzhou Stainless Steel Corporation
Angang Hanyang Stainless Steel Corp.
Anping Yuanjing Metal Products Co., Ltd.
Apex Industries Corporation
Baofeng Xianlong Stainless Steel (Baofeng Steel Group Co.)
Baojing Steel Ltd.
Baosteel Desheng Stainless Steel Co., Ltd.
Baosteel Stainless Steel Co., Ltd.
Baotou Huayong Stainless Steel Co., Ltd.
Beihai Chengde Ferronickel Stainless Steel
Beijing Dayang Metal Industry Co.
Beijing Hengsheng Tongda Stainless Steel
Beijing Jingnanfang Decoration Engineering Co., Ltd.
Benxi Iron and Steel
Chain Chon Metal (Foshan)
Chain Chon Metal (Kunshan)
Changhai Stainless Steel
Changzhou General Import and Export
Changzhou Taiye Sensing Technology Co., Ltd.
Compart Precision Co.
Dalian Yirui Import and Export Agent Co., Ltd.
Daming International Import and Export Co., Ltd.
Dongbei Special Steel Group Co., Ltd.
Double Stone Steel
Etco (China) International Trading Co., Ltd.
FHY Corporation
Foshan Foreign Economic Enterprise
Foshan Hermes Steel Co., Ltd.
Foshan Jinfeifan Stainless Steel Co.
Foshan Topson Stainless Steel Co.
Fugang Group
Fujian Fuxin Special Steel Co., Ltd.
Fujian Kaixi Stainless Steel
Fujian Wuhang STS Products Co., Ltd.
Gangzhan Steel Developing Co., Ltd.
Globe Express Services Co., Ltd.
Golden Fund International Trading Co.
Guangdong Forward Metal Supply Chain Co., Ltd.
Guangdong Guangxin Suntec Metal Holdings Co., Ltd.
Guanghan Tiancheng Stainless Steel Products Co., Ltd.
Guangxi Beihai Chengde Group
Guangxi Wuzhou Jinhai Stainless Steel Co.
Guangxi Wuzhou Jinhai Stainless Steel Co.
Guangzhou Eversunny Trading Co., Ltd.
Haimen Senda Decoration Material Co.
Hanyang Stainless Steel Co. (LISCO)
Hebei Iron & Steel
Henan Tianhong Metal (Subsidiary of Foshan Mellow Stainless Steel Company)
Henan Xinjinhui Stainless Steel Co., Ltd. (Jinhui Group)
Henan Xuyuan Stainless Steel Co
Huadi Steel Group Co., Ltd.
Ideal Products of Dongguan Ltd.
Irestal Shanghai Stainless Pipe (ISSP)
Jaway Metal Co., Ltd.
Jiangdu Ao Jian Sports Apparatus Factory
Jiangsu Daming Metal Products Co., Ltd.
Jiangsu Jihongxin Stainless Steel Co., Ltd.
Jiaxing Winner Import and Export Co., Ltd.
Jiaxing Zhongda Import and Export Co., Ltd.
Jieyang Baowei Stainless Steel Co., Ltd
Jinyun Xintongmao
Jiuquan Iron & Steel (JISCO)
Kuehne & Nagel, Ltd. (Ningbo)
La Qin (Hong Kong) Co., Ltd.
Lianzhong Stainless Steel Corp. (LISCO)
Maanshan Sungood Machinery Equipment Co., Ltd.
Minmetals Steel Co., Ltd.
Nanhi Tengshao Metal Manufacturing Co.
NB (Ningbo) Rilson Export & Import Corp.
Ningbo Baoxin Stainless Steel Co., Ltd.
Ningbo Bestco Import & Export Co., Ltd.
Ningbo Bingcheng Import & Export Co., Ltd.
Ningbo Chinaworld Grand Import & Export Co., Ltd.
Ningbo Dawon Resources Co., Ltd. No.
Ningbo Economic and Technological Development Zone (Beilun Xiapu)
Ningbo Hog Slat Trading Co., Ltd.
Ningbo New Hailong Import & Export Co.
Ningbo Polaris Metal Products Co.
Ningbo Portec Sealing Component
Ningbo Qiyi Precision Metals Co., Ltd.
Ningbo Seduno Import & Export Co., Ltd.
Ningbo Sunico International Ltd.
Ningbo Swoop Import & Export
Ningbo Yaoyi International Trading Co., Ltd.
Onetouch Business Service, Ltd.
Qianyuan Stainless Steel
Qingdao Rising Sun International Trading Co,. Ltd.
Qingdao-Pohang Stainless Steel (QPSS)
Rihong Stainless Co., Ltd.
Ruitian Steel
Samsung Precision Stainless Steel (Pinghu) Co., Ltd.
Sejung Sea & Air Co., Ltd.
Shainghai Fengye Industry Co., Ltd.
Shandong Huaye Stainless Steel Group Co., Ltd.
Shandong Mengyin Huaran Imp and Exp Co., Ltd.
Shandong Mingwei Stainless Steel Products Co., Ltd.
Shanghai Dongjing Import & Export Co.
Shanghai Ganglian E-Commerce Holdings Co., Ltd.
Shanghai Krupp Stainless (SKS)
Shanghai Tankli Alloy Material Co., Ltd. L
Shanxi Taigang Stainless Steel Co., Ltd. (TISCO)
Shaoxing Andrew Metal Manufactured Co., Ltd.
Shaoxing Yuzhihang Import & Export Trade Co., Ltd.
Shenzhen Brilliant Sign Co., Ltd.
Sichuan Southwest Stainless Steel
Sichuan Tianhong Stainless Steel
Sino Base Metal Co., Ltd.
Suzhou Xinchen Precision Industrial Materials Co., Ltd.
Taiyuan Accu Point Technology, Co. Ltd.
Taiyuan Iron & Steel (TISCO)
Taiyuan Ridetaixing Precision Stainless Steel Incorporated Co., Ltd.
Taizhou Durable Hardware Co., Ltd
Tiancheng Stainless Steel Products
Tianjin Fulida Supply Co., Ltd.
Tianjin Hongji Stainless Steel Products Co. Ltd.
Tianjin Jiuyu Trade Co., Ltd.
Tianjin Taigang Daming Metal Product Co., Ltd.
Tianjin Teda Ganghua Trade Co., Ltd.
Tianjin Tianchengjida Import & Export Trade Co., Ltd.
Tianjin Tianguan Yuantong Stainless Steel
Tiashan Steel
TISCO Stainless Steel (HK) Ltd.
Top Honest Stainless Steel Co., Ltd.
TPCO Yuantong Stainless Steel Ware
Tsingshan Qingyuan
World Express Freight Co., Ltd.
Wuxi Baochang Metal Products Co., Ltd.
Wuxi Fangzhu Precision Materials Co.
Wuxi Grand Tang Metal Co., Ltd.
Wuxi Jinyate Steel Co., Ltd.
Wuxi Shuoyang Stainless Steel Co., Ltd.
Xinwen Mining Xinwen
Yieh Corp. Ltd.
Yongjin Metal Technology
Yuyao Purenovo Stainless Steel Co., Ltd.
Zhangjiagang Pohang Stainless Steel Co., Ltd. (ZPSS)
Zhejiang Jaguar Import & Export Co., Ltd.
Zhejiang Yongyin Metal Tech Co.
Zhengzhou Mingtai Industry Co., Ltd.
Zhenjiang Huaxin Import & Export
Zhenshi Group Eastern Special Steel Co., Ltd
Zun Hua City Transcend Ti-Gold
The People's Republic of China: Wooden Cabinets and Vanities and Components Thereof, A-570-106 | 4/1/22-3/31/23
Anhui Xinyuanda Cupboard Co., Ltd
Changyi Zhengheng Woodwork Co., Ltd.
Dalian Hualing Wood Co., Ltd.
Dalian Meisen Woodworking Co., Ltd.
Deqing Meisheng Import and Export Co., Ltd.
Dongguan Ri Sheng Home Furnishing Articles Co., Ltd.
Fujian Dushi Wooden Industry Co., Ltd.
Fujian Leifeng Cabinetry Co., Ltd.
Fujian Senyi Kitchen Cabinet Co., Ltd.
Fuzhou CBM Import & Export Co., Ltd.
Fuzhou Hauster Kitchen Cabinet Manufacturing Co., Ltd.
Fuzhou Pyrashine Trading Co., Ltd.
Goldenhome Living Co., Ltd.
Guangzhou Nuolande Import and Export Co., Ltd.
Hangzhou Hoca Kitchen & Bath Products Co., Ltd.
Honsoar New Building Material Co., Ltd.
Jiang Su Rongxin Cabinets Ltd.
Jiang Su Rongxin Import and Export Co., Ltd.
Jiang Su Rongxin Wood Industry Co., Ltd.
Jiangsu Beichen Wood Co., Ltd.
Jiangsu Sunwell Cabinetry Co., Ltd.
Jiangsu Weisen Houseware Co., Ltd.
Jiangsu Xiangsheng Bedtime Furniture Co., Ltd
KM Cabinetry Co., Ltd.
Kunshan Baiyulan Furniture Co., Ltd.
Linshu Meibang Furniture Co., Ltd.
Linyu Bonn Flooring Manufacture Co., Ltd.
Linyi Bomei Furniture Co., Ltd.
Linyi Kaipu Furniture Co., Ltd.
Morewood Cabinetry Co., Ltd.
Nantong Aershin Cabinets Co., Ltd.
Pizhou Ouyme Import & Export Trade Co., Ltd.
Qingdao Shousheng Industry Co., Ltd.
Quanzhou Ample Furnishings Co., Ltd.
Qufu Xinyu Furniture Co., Ltd
Senke Manufacturing Company
Shandong Jinhua Wood Co., Ltd.
Shandong Longsen Woods Co., Ltd.
Shanghai Beautystar Cabinetry Co., Ltd.
Shanghai Zifeng Industries Development Co., Ltd.
Shanghai Zifeng International Trading Co., Ltd.
Sheen Lead International Trading (Shanghai) Co., Ltd.
Shenzhen Pengchengzhirong Trade Co., Ltd.
Shouguang Fushi Wood Co., Ltd.
Suofeiya Home Collection Co., Ltd.
Suzhou Siemo Wood Import & Export Co., Ltd.
Taishan Hongxiang Trading Co., Ltd.
Taishan Oversea Trading Company Ltd.
Taizhou Overseas Int'l Ltd.
Tech Forest Cabinetry Co., Ltd.
The Ancientree Cabinet Co., Ltd.
Weifang Fuxing Wood Co., Ltd.
Weifang Yuanlin Woodenware Co., Ltd.
Weihai Jarlin Cabinetry Manufacture Co., Ltd.
Weisen Houseware Co., Ltd.
Xiamen Adler Cabinetry Co., Ltd.
Xiamen Golden Huanan Imp. & Exp. Co., Ltd.
Xiamen Got Cheer Co., Ltd.
Xuzhou Yihe Wood Co., Ltd.
Yichun Dongmeng Wood Co., Ltd.
Yindu Kitchen Equipment Co., Ltd.
Yixing Pengjia Cabinetry Co. Ltd.
Yixing Pengjia Technology Co., Ltd.
Zaozhuang New Sharp Import & Export Trading Co., Ltd.
ZBOM Cabinets Co., Ltd.
Zhangzhou OCA Furniture Co., Ltd.
Zhongshan KM Cabinetry Co., Ltd.
Zhongshan NU Furniture Co., Ltd.
Zhoushan For-strong Wood Co., Ltd.
Turkey: Common Alloy Aluminum Sheet, A-489-839 | 4/1/22-3/31/23
ASAS Aluminyum Sanayi ve Ticaret A.S.
Assan Aluminyum Sanayi ve Ticaret A.S.
Kibar Americas, Inc.
Kibar Dis Ticaret A.S.
Panda Aluminyum A.S.
PMS Metal Profil Aluminyum Sanayi ve Ticaret A.S.
TAC Metal Ticaret Anonim Sirketi
Teknik Aluminyum Sanayi A.S.
CVD Proceedings
Bahrain: Common Alloy Aluminum Sheet, C-525-002 | 1/1/22-12/31/22
Gulf Aluminium Rolling Mill B.S.C.
India: Carbon and Alloy Steel Threaded Rod, C-533-888 | 1/1/22-12/31/22
Mangal Steel Enterprises Limited
R K Fasteners of India
India: Common Alloy Aluminum Sheet | 1/1/22-12/31/22
Hindalco Industries Limited
Jindal Aluminum Limited
Manaksia Aluminium Company Limited
Virgo Aluminum Limited
Morocco: Phosphate Fertilizers, C-714-001 | 1/1/22-12/31/22
OCP S.A.; Jorf Fertilizers Company I; Jorf Fertilizers Company II; Jorf Fertilizers Company III; Jorf Fertilizers Company IV; Jorf Fertilizers Company V; Maroc Phosphore ⁹
Russia: Granular Polytetrafluoroethylene Resin ¹⁰, C-821-830 | 7/6/21—12/31/22
HaloPolymer Kirovo-Chepetsk, LLC; Joint Stock Company HaloPolymer Perm; Joint Stock Company HaloPolymer; URALCHEM JSC
Russia: Phosphate Fertilizers, C-821-825 | 1/1/22-12/31/22
Industrial Group Phosphorite LLC; Mineral and Chemical Company EuroChem, JSC; NAK Azot, JSC; EuroChem Northwest, JSC; Joint Stock Company Kovdorksy GOK; EuroChem-Energo, LLC; EuroChem-Usolsky Potash Complex, LLC; EuroChem-BMU, LLC; JSC Nevinnomyssky Azot; EuroChem Trading Rus, LLC ¹¹
Joint Stock Company Apatit; PhosAgro PJSC; PhosAgro-Belgorod LLC; PhosAgro-Don LLC; PhosAgro-Kuban LLC; PhosAgro-Kursk LLC; PhosAgro-Lipetsk LLC; PhosAgro-Orel LLC; PhosAgro-Stavropol LLC; PhosAgro-Volga LLC; PhosAgro-SeveroZapad LLC; PhosAgro-Tambov LLC; Martynovsk AgrokhimSnab LLC ¹²
The People's Republic of China: Aluminum Foil, C-570-054 | 1/1/22-12/31/22
Alcha International Holdings Limited
Aluminum Corporation of China Limited
Anhui Maximum Aluminium Industries Company Ltd.
Anhui Zhongji Battery Foil Science & Technology Co., Ltd.
Baotou Alcha Aluminum Co., Ltd.
Dingheng New Materials Co., Ltd.
Dingsheng Aluminum Industries (Hong Kong) Trading Co., Ltd.
Dong-Il Aluminum Co., Ltd
Dongwon Systems Corp.
Eastern Valley Co., Ltd
Gränges Aluminum (Shanghai) Co., Ltd.
Guangxi Baise Xinghe Aluminum Industry Co., Ltd.
Hangzhou DingCheng Aluminium Co., Ltd.
Hangzhou Dingsheng Import & Export Co., Ltd.
Hangzhou Dingsheng Industrial Group Co., Ltd.
Hangzhou Five Star Aluminium Co., Ltd.
Hangzhou Teemful Aluminium Co., Ltd.
Henan Mingtai Al. Industrial
Hunan Suntown Marketing Limited
Inner Mongolia Liansheng New Energy Material Co., Ltd.
Inner Mongolia Xinxing New Energy Material Co., Ltd.
Jiangsu Dingsheng New Materials Joint-Stock Co., Ltd.
Jiangsu Huafeng Aluminum Industry Co., Ltd.
Jiangsu Zhongji Lamination Materials Co., (HK) Limited
Jiangsu Zhongji Lamination Materials Co., Ltd.
Jiangyin Dolphin Pack Ltd. Co.
Lotte Aluminium Co., Ltd.
Luoyang Longding Aluminium Industries Co., Ltd.
SAM-A Aluminum Co., Ltd.
Sankyu-Thai Co., Ltd.
Shandong Nanshan Aluminium Co., Ltd.
Shandong Yuanrui Metal Material Co., Ltd.
Shanghai Huafon Aluminium Corporation
Shanghai Shenhuo Aluminium Foil Co., Ltd.
Shanghai Shenyan Packaging Materials Co., Ltd.
Shanghai Sunho Aluminum Foil Co., Ltd.
Shantou Wanshun Package Material Stock Co., Ltd.
SNTO International Trade Limited
Suntown Technology Group Corporation Limited
Thai Ding Li New Materials Co., Ltd.
Walson (HK) Trading Co., Limited
Xiamen Xiashun Aluminium Foil Co., Ltd.
Yangtai Jintai International Trade Co., Ltd.
Yantai Donghai Aluminum Co., Ltd.
Yinbang Clad Material Co., Ltd.
Zhejiang Yongjie Aluminum Co., Ltd.
Zhejiang Zhongjin Aluminum Industry Co., Ltd.
The People's Republic of China: Carbon and Alloy Steel Threaded Rod, C-570-105 | 1/1/22-12/31/22
Ningbo Dingtuo Imp. & Exp. Co., Ltd.
Ningbo Dongxin High-Strength Nut Co., Ltd.
Ningbo Jinding Fastening Piece Co., Ltd.
Ningbo Zhenghai Yongding Fastener Co., Ltd.
Ningbo Zhongjiang High Strength Bolts Co., Ltd.; Ningbo Zhongmin Metal Product Co., Ltd ¹³
The People's Republic of China: Stainless Steel Sheet and Strip, C-570-043 | 1/1/22-12/31/22
Ahonest Changjiang Stainless Co., Ltd
Angang Guangzhou Stainless Steel Corporation
Angang Hanyang Stainless Steel Corp.
Anping Yuanjing Metal Products Co., Ltd
Apex Industries Corporation
Baofeng Xianlong Stainless Steel
Baojing Steel Ltd
Baotou Huayong Stainless Steel Co., Ltd
Beihai Chengde Ferronickel Stainless Steel
Beijing Jingnanfang Decoration Engineering Co., Ltd.
Chain Chon Metal (Foshan)
Changhai Stainless Steel
Changzhou General Import and Export
Changzhou Taiye Sensing Technology Co., Ltd.
Compart Precision Co
Dalian Yirui Import and Export Agent Co., Ltd.
Daming International Import and Export Co., Ltd
Etco (China) International Trading Co., Ltd
FHY Corporation
Foshan Foreign Economic Enterprise
Foshan Hermes Steel Co., Ltd.
Foshan Jinfeifan Stainless Steel Co.
Foshan Topson Stainless Steel Co
Fugang Group
Fujian Fuxin Special Steel Co., Ltd.
Fujian Kaixi Stainless Steel
Fujian Wuhang STS Products Co., Ltd.
Gangzhan Steel Developing Co., Ltd.
Globe Express Services Co., Ltd
Golden Fund International Trading Co
Guangdong Forward Metal Supply Chain Co., Ltd.
Guanghan Tiancheng Stainless Steel Products Co., Ltd.
Guangxi Beihai Chengde Group
Guangxi Wuzhou Jinhai Stainless Steel Co.
Guangzhou Eversunny Trading Co., Ltd.
Haimen Senda Decoration Material Co.
Hanyang Stainless Steel Co. (LISCO)
Hebei Iron & Steel
Henan Xinjinhui Stainless Steel Co., Ltd
Henan Xuyuan Stainless Steel Co., Ltd
Huadi Steel Group Co., Ltd.
Ideal Products of Dongguan Ltd.
Irestal Shanghai Stainless Pipe (ISSP)
Jaway Metal Co., Ltd.
Jiangdu Ao Jian Sports Apparatus Factory
Jiangsu Daming Metal Products Co., Ltd.
Jiangsu Jihongxin Stainless Steel Co., Ltd.
Jiaxing Winner Import and Export Co., Ltd.
Jiaxing Zhongda Import and Export Co., Ltd.
Jieyang Baowei Stainless Steel Co., Ltd.
Jinyun Xintongmao
Jiuquan Iron & Steel (JISCO)
Kuehne & Nagel, Ltd. (Ningbo)
La Qin (Hong Kong) Co., Ltd.
Minmetals Steel Co., Ltd.
Nanhi Tengshao Metal Manufacturing Co.
NB (Ningbo) Rilson Export & Import Corp.
Ningbo Baoxin Stainless Steel Co., Ltd.; Baoshan Iron & Steel Co., Ltd.; Baosteel Co., Ltd.; Baosteel Desheng Stainless Steel Co., Ltd.; Baosteel Stainless Steel Co., Ltd.; Bayi Iron & Steel Co., Ltd.; Guangdong Shaoguan Iron & Steel Co., Ltd.; Ningbo Iron & Steel Co., Ltd.; Shaoguan Iron & Steel Co., Ltd.; Zhanjiang Iron & Steel Co., Ltd.¹⁴
Ningbo Bestco Import & Export Co., Ltd.
Ningbo Bingcheng Import & Export Co., Ltd.
Ningbo Bingcheng Import & Export Co., Ltd.
Ningbo Chinaworld Grand Import & Export Co., Ltd.
Ningbo Chinaworld Grand Import & Export Co., Ltd.
Ningbo Dawon Resources Co., Ltd.
Ningbo Dawon Resources Co., Ltd.
Ningbo Hog Slat Trading Co., Ltd.
Ningbo New Hailong Import & Export Co
Ningbo Polaris Metal Products Co.
Ningbo Portec Sealing Component
Ningbo Qiyi Precision Metals Co., Ltd.
Ningbo Seduno Import & Export Co., Ltd
Ningbo Sunico International Ltd.
Ningbo Swoop Import & Export
Ningbo Yaoyi International Trading Co., Ltd
Onetouch Business Service, Ltd
Qianyuan Stainless Steel
Qingdao Rising Sun International Trading Co., Ltd.
Qingdao Sincerely Steel
Qingdao-Pohang Stainless Steel (QPSS)
Rihong Stainless Co., Ltd
Ruitian Steel
Samsung Precision Stainless Steel (Pinghu) Co., Ltd.
Sejung Sea & Air Co., Ltd.
Seko International Freight Forwarding Shanghai Co., Ltd.
Shainghai Fengye Industry Co., Ltd.
Shandong Huaye Stainless Steel Group Co., Ltd.
Shandong Mengyin Huaran Imp and Exp Co., Ltd.
Shandong Mingwei Stainless Steel Products Co., Ltd
Shanghai Dongjing Import & Export Co.
Shanghai Ganglian E-Commerce Holdings Co., Ltd
Shanghai Krupp Stainless (SKS)
Shanghai Metal Corporation
Shanghai Tankli Alloy Material Co., Ltd.
Shanxi Taigang Stainless Steel Co., Ltd.; Shanxi Taigang Stainless Steel Precision Strip Co., Ltd.; Shanxi Taigang Wanbang Furnace Burden Co., Ltd.; Taigang (Group) International Economic and Trade Co., Ltd.; Taiyuan Iron and Steel Group Co., Ltd.; Tianjin TISCO & TPCO Stainless Steel Co., Ltd.; TISCO Metal Recycle Co., Ltd.; TISCO Mining Branch Company ¹⁵
Shaoxing Yuzhihang Import & Export Trade Co., Ltd.
Shenzhen Brilliant Sign Co., Ltd.
Shenzhen Wide International Trade Co., Ltd.
Shenzhen Y.T.X. Metal Co., Ltd.
Sichuan Southwest Stainless Steel
Sichuan Tianhong Stainless Steel
Sino Base Metal Co., Ltd.
Suzhou Xinchen Precision Industrial Materials Co., Ltd.
Taiyuan Accu Point Technology, Co. Ltd.
Taiyuan Iron & Steel (TISCO)
Taiyuan Ridetaixing Precision Stainless Steel Incorporated Co., Ltd.
Taizhou Durable Hardware Co., Ltd.
Tiancheng Stainless Steel Products
Tianjin Fulida Supply Co., Ltd.
Tianjin Hongji Stainless Steel Products Co. Ltd.
Tianjin Jiuyu Trade Co., Ltd.
Tianjin Taigang Daming Metal Product Co., Ltd.
Tianjin Teda Ganghua Trade Co., Ltd.
Tianjin Tianchengjida Import & Export Trade Co., Ltd.
Tiashan Steel
TISCO Stainless Steel (HK) Ltd.
Top Honest Stainless Steel Co., Ltd.
TPCO Yuantong Stainless Steel Ware
Tsingshan Qingyuan
World Express Freight Co., Ltd.
Wuxi Baochang Metal Products Co., Ltd.
Wuxi Fangzhu Precision Materials Co.
Wuxi Grand Tang Metal Co., Ltd.
Wuxi Jinyate Steel Co., Ltd.
Wuxi Joyray International Corp.
Wuxi Shuoyang Stainless Steel Co., Ltd.
Xiamen Lizhou Hardware Spring Co., Ltd.
Xinwen Mining
Yieh Corp. Ltd.
Yongjin Metal Technology
Yuyao Purenovo Stainless Steel Co., Ltd.
Zhangjiagang Pohang Stainless Steel Co., Ltd. (ZPSS)
Zhejiang Baohong Stainless Steel Co., Ltd.
Zhejiang Huashun Metals Co., Ltd.
Zhejiang Jaguar Import & Export Co., Ltd.
Zhejiang New Vision Import & Export
Zhejiang Yongjin Metal Technology Co., Ltd
Zhengzhou Mingtai Industry Co., Ltd.
Zhenjiang Huaxin Import & Export
Zhenshi Group Eastern Special Steel Co., Ltd
Zun Hua City Transcend Ti-Gold
The People's Republic of China: Wooden Cabinets and Vanities and Components Thereof, C-570-107 | 1/1/22-12/31/22
Changyi Zhengheng Woodwork Co., Ltd
Dalian Hualing Wood Co., Ltd
Dalian Meisen Woodworking Co. Ltd.; Dalian Hechang Technology Development Co., Ltd.¹⁶
Fujian Dushi Wooden Industry Co., Ltd.
Fujian Leifeng Cabinetry Co., Ltd.
Fuzhou CBM Import & Export Co., Ltd.
GOLDENHOME LIVING CO., LTD.
Guangzhou Nuolande Import and Export Co., Ltd.
Honsoar New Building Material Co., Ltd
Jiangsu Beichen Wood Co., Ltd.
Jiang Su Rongxin Wood Industry Co., Ltd
Jiangsu Sunwell Cabinetry Co., Ltd
Jiangsu Xiangsheng Bedtime Furniture Co., Ltd
KM Cabinetry Co., Ltd.
Linyi Bomei Furniture Co., Ltd
Linyi Bonn Flooring Manufacture Co., Ltd.
Linyi Kaipu Furniture Co., Ltd.
Morewood Cabinetry Co., Ltd
Nantong Aershin Cabinet Co., Ltd
Pizhou Ouyme Import & Export Trade Co., Ltd.
Qingdao Shousheng Industry Co., Ltd
Senke Manufacturing Company
Shandong Jinhua Wood Co., Ltd.
Shandong Longsen Woods Co., Ltd.
Shanghai Beautystar Cabinetry Co., Ltd.
Shanghai Zifeng International Trading Co., Ltd.
Shouguang Fushi Wood Co., Ltd
SUOFEIYA HOME COLLECTION CO., LTD
Taishan Hongxiang Trading Co., Ltd.
Taishan Oversea Trading Company Ltd.
Taizhou Overseas Int'l Ltd.
The Ancientree Cabinet Co., Ltd; Jiangsu Hongjia Wood Co., Ltd.; Shanghai Hongjia Wood Co., Ltd.; Jiangsu Hongjia Wood Co., Ltd. Shanghai Branch ¹⁷
Weifang Fuxing Wood Co., Ltd.
Weifang Yuanlin Woodenware Co., Ltd
Xiamen Adler Cabinetry Co., Ltd.
Xuzhou Yihe Wood Co., Ltd
Yixing Pengjia Cabinetry Co., Ltd.
Yixing Pengjia Technology Co., Ltd.
Zaozhuang New Sharp Import & Export Trading Co., Ltd
Zhangzhou OCA Furniture Co., Ltd.
Zhongshan NU Furniture Co., Ltd
Zhoushan For-Strong Wood Co. Ltd.
The Republic of Turkey: Common Alloy Aluminum Sheet, C-489-840 | 1/1/22-12/31/22
ASAS Aluminyum Sanayi ve Ticaret A.S.
Assan Aluminyum Sanayi ve Ticaret A.S.; Kibar Dis Ticaret A.S; Kibar Holding
A.S.¹⁸
Kibar Americas, Inc.
P.M.S. Metal Profil Aluminyum Sanayi Ve Ticaret A.S.
Teknik Aluminyum Sanayi A.S.; TAC Metal Ticaret A.S.¹⁹

Suspension Agreements

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

⁵ In past reviews, Commerce has treated these companies as a single entity. See, e.g., Certain Activated Carbon From the People's Republic of China: Final Results of Antidumping Duty Administrative Review; and Final Determination of No Shipments; 2020-2021, 87 FR 67671 (November 9, 2022). We also received a review request for Jacobi Carbons, Inc.; however, Jacobi Carbons, Inc. is a U.S. affiliate of Jacobi Carbons AB.

⁶ Commerce determined that Ningxia Huahui Environmental Technology Co., Ltd. is the successor-in-interest of Ningxia Huahui Activated Carbon Co., Ltd. See Certain Activated Carbon from the People's Republic of China: Notice of Initiation and Preliminary Results of Antidumping Duty Changed Circumstances Review, 86 FR 56248 (October 8, 2021).

⁷ Commerce is initiating a review of this company because it has been found to be part of a single entity with other companies for which an administrative review was requested. See Certain Aluminum Foil from the People's Republic of China: Final Results of Antidumping Duty Administrative Review and Final Determination of No Shipments; 2019-2020, 87 FR 935 (January 7, 2022).

⁸ The notice of opportunity to request an administrative review which published on April 4, 2023 (88 FR 19916) incorrectly listed the period of review as 9/30/2021-3/31/2023. The correct period of review, 4/13/2022-3/31/2023, is listed in this notice.

⁹ Commerce has previously found these companies cross-owned. See Phosphate Fertilizers from the Kingdom of Morocco: Final Affirmative Countervailing Duty Determination, 86 FR 9482 (February 16, 2021).

¹⁰ In Initiation of Antidumping and Countervailing Duty Administrative Reviews, 88 FR 29881 (May 9, 2023), Commerce inadvertently initiated this administrative review with respect to the entity named “OJSC.” Commerce hereby corrects that notice, initiating an administrative review only with respect to HaloPolymer Kirovo-Chepetsk, LLC and its cross-owned companies, as requested.

¹¹ Commerce has previously found these companies cross-owned. See Phosphate Fertilizers from the Russian Federation: Final Affirmative Countervailing Duty Determination, 86 FR 9479 (February 16, 2021).

¹² Id.

¹³ Commerce previously found Ningbo Zhongmin Metal Product Co., Ltd. to be a cross-owned affiliate of Ningbo Zhongjiang High Strength Bolts Co., Ltd. See Carbon and Alloy Steel Threaded Rod from India and the People's Republic of China: Countervailing Duty Orders, 85 FR 19927 (April 9, 2020). Accordingly, we are initiating this review with respect to Ningbo Zhongjiang High Strength Bolts Co., Ltd. and its cross-owned entity, Ningbo Zhongmin Metal Product Co., Ltd., listed in this notice.

¹⁴ Commerce previously found Ningbo Baoxin Stainless Steel Co., Ltd. to be cross-owned with Baoshan Iron & Steel Co., Ltd.; Baosteel Co., Ltd.; Baosteel Desheng Stainless Steel Co., Ltd.; Baosteel Stainless Steel Co., Ltd.; Bayi Iron & Steel Co., Ltd.; Guangdong Shaoguan Iron & Steel Co., Ltd.; Ningbo Iron & Steel Co., Ltd.; Shaoguan Iron & Steel Co., Ltd.; and Zhanjiang Iron & Steel Co., Ltd. See Stainless Steel Sheet and Strip from the People's Republic of China: Countervailing Duty Order, 82 FR 16166 (April 3, 2017). Accordingly, we are initiating this review with respect to Ningbo Baoxin Stainless Steel Co., Ltd. and its cross-owned entities as listed in this notice.

¹⁵ Commerce previously found Shanxi Taigang Stainless Steel Precision Strip Co., Ltd. to be cross-owned with Shanxi Taigang Wanbang Furnace Burden Co., Ltd.; Taigang (Group) International Economic and Trade Co., Ltd.; Taiyuan Iron and Steel Group Co., Ltd.; Tianjin TISCO & TPCO Stainless Steel Co., Ltd.; TISCO Metal Recycle Co., Ltd.; and TISCO Mining Branch Company. See Countervailing Duty Investigation of Stainless Steel Sheet and Strip from the People's Republic of China: Preliminary Affirmative Determination and Alignment of Final Determination with Final Antidumping Duty Determination, 81 FR 46643 (July 18, 2018), and accompanying Preliminary Decision Memorandum (PDM) at 27-28, unchanged in Countervailing Duty Investigation of Stainless Steel Sheet and Strip From the People's Republic of China: Final Affirmative Determination, and Final Affirmative Critical Circumstances Determination, in Part, 82 FR 9714 (February 8, 2017). Accordingly, we are initiating this review with respect to Shanxi Taigang Stainless Steel Precision Strip Co., Ltd. and its cross-owned entities as listed in this notice.

¹⁶ Commerce previously found Dalian Meisen Woodworking Co. Ltd. and Dalian Hechang Technology Development Co., Ltd. to be cross-owned. See Wooden Cabinets and Vanities and Components Thereof from the People's Republic of China: Preliminary Affirmative Countervailing Determination, and Alignment of Final Determination With Final Antidumping Duty Determination, 84 FR 39798 (August 12, 2029), and accompanying PDM at 36-37, unchanged in Wooden Cabinets and Vanities and Components Thereof from the People's Republic of China: Final Affirmative Countervailing Duty Determination, 85 FR 11962 (February 28, 2020).

¹⁷ Commerce previously found The Ancientree Cabinet Co., Ltd; Jiangsu Hongjia Wood Co., Ltd.; Shanghai Hongjia Wood Co., Ltd.; and Jiangsu Hongjia Wood Co., Ltd. Shanghai Branch to be cross-owned. See Wooden Cabinets and Vanities and Components Thereof from the People's Republic of China: Preliminary Affirmative Countervailing Determination, and Alignment of Final Determination With Final Antidumping Duty Determination, 84 FR 39798 (August 12, 2029), and accompanying PDM at 35-36, unchanged in Wooden Cabinets and Vanities and Components Thereof from the People's Republic of China: Final Affirmative Countervailing Duty Determination, 85 FR 11962 (February 28, 2020).

¹⁸ Commerce previously found Assan Aluminyum Sanayi ve Ticaret A.S.; Kibar Dis Ticaret A.S.; and Kibar Holding A.S. to be cross-owned. See Common Alloy Aluminum Sheet from the Republic of Tukey: Final Affirmative Countervailing Duty Determination and Final Affirmative Determination of Critical Circumstances, in Part, 86 FR 13315 (March 8, 2021) (Turkey Common Alloy Aluminum Sheet Final CVD Determination).

¹⁹ Commerce previously found Teknik Aluminyum Sanayi A.S. and TAC Metal Ticaret A.S. to be cross-owned. See Turkey Common Alloy Aluminum Sheet Final CVD Determination. Accordingly, we are initiating this review with respect to Teknik Aluminyum Sanayi A.S. and its cross-owned entity, TAC Metal Ticaret A.S., listed in this notice.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,²⁰ available at www.govinfo.gov/content/pkg/FR-2013-07-17/pdf/2013-17045.pdf, prior to submitting factual information in this segment. Note that Commerce has temporarily modified certain of its requirements for serving documents containing business proprietary information, until further notice.²¹

²⁰ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

²¹ See Temporary Rule Modifying AD/CVD Service Requirements Due to COVID-19, 85 FR 41363 (July 10, 2020).

Any party submitting factual information in an AD or CVD proceeding must certify to the accuracy and completeness of that information using the formats provided at the end of the Final Rule.²² Commerce intends to reject factual submissions in any proceeding segments if the submitting party does not comply with applicable certification requirements.

²² See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.²³ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

²³ See 19 CFR 351.302.

These initiations and this notice are in accordance with section 751(a) of the Act (19 U.S.C. 1675(a)) and 19 CFR 351.221(c)(1)(i).

Dated: June 6, 2023.
James Maeder,
Deputy Assistant Secretary for Antidumping and Countervailing Duty Operations.

[FR Doc. 2023-12432 Filed 6-9-23; 8:45 am]

BILLING CODE 3510-DS-P